DEPARTMENT OF COMMERCE

Foreign-Trade Zones Board

[B-47-2014]

Foreign-Trade Zone 25—Broward County, Florida; Authorization of Production Activity; Prodeco Technologies, LLC; (Electric Bicycles) Oakland Park, Florida

On June 27, 2014, the Port Everglades Department of Broward County, grantee of FTZ 25, submitted a notification of proposed production activity to the Foreign-Trade Zones (FTZ) Board on behalf of Prodeco Technologies, LLC, in Oakland Park, Florida.

The notification was processed in accordance with the regulations of the FTZ Board (15 CFR part 400), including notice in the Federal Register inviting public comment (79 FR 38007-38008, 7-3-2014). The FTZ Board has determined that no further review of the activity is warranted at this time. The production activity described in the notification is authorized, subject to the FTZ Act and the FTZ Board's regulations, including Section 400.14.

Dated: October 28, 2014.
Andrew McGilvray,
Executive Secretary.

[FR Doc. 2014-25953 Filed 10-30-14; 8:45 am]

BILLING CODE 3510-DS-P